DEPARTMENT OF COMMERCE

National Oceanic and Atmospheric Administration

50 CFR Part 660

Docket No. 100804324-1265-02]

RIN 0648-BB21

Magnuson-Stevens Act Provisions; Fisheries Off West Coast States; Pacific Coast Groundfish Fishery; Biennial Specifications and Management Measures; Inseason Adjustments

AGENCY: National Marine Fisheries Service (NMFS), National Oceanic and Atmospheric Administration (NOAA), Commerce.

ACTION: Final rule; inseason adjustments to biennial groundfish management measures; request for comments.

SUMMARY: This final rule announces inseason changes to management measures in the commercial Pacific Coast groundfish fisheries. These actions, which are authorized by the Pacific Coast Groundfish Fishery Management Plan (FMP), are intended to allow fisheries to access more abundant groundfish stocks while protecting overfished and depleted stocks.

DATES: Effective 0001 hours (local time) July 1, 2011. Comments on this final rule must be received no later than 5 p.m., local time on August 1, 2011.

ADDRESSES: You may submit comments, identified by RIN 0648-BB21 by any one of the following methods:

• Electronic Submissions: Submit all electronic public comments via the Federal eRulemaking Portal http://www.regulations.gov.

• Fax: 206-526-6736, Attn: Gretchen Hanshew.

• Mail: William W. Stelle, Jr., Regional Administrator, Northwest Region, NMFS, 7600 Sand Point Way NE., Seattle, WA 98115-0070, Attn: Gretchen Hanshew.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Gretchen Hanshew (Northwest Region, NMFS), 206-526-6147, fax: 206-526-6736, gretchen.hanshew@noaa.gov.

SUPPLEMENTARY INFORMATION:

Electronic Access

This final rule is accessible via the Internet at the Office of the Federal Register's Web site at http://www.gpoaccess.gov/fr/index.html. Background information and documents are available at the Pacific Fishery Management Council's Web site at http://www.pcouncil.org/.

Background

The Pacific Coast Groundfish FMP and its implementing regulations at title 50 in the Code of Federal Regulations (CFR), part 660, subparts C through G, regulate fishing for over 90 species of groundfish off the coasts of Washington, Oregon, and California. Groundfish specifications and management measures are developed by the Pacific Fishery Management Council (Council), and are implemented by NMFS. On November 3, 2011, NMFS published a proposed rule to implement the 2011-2012 harvest specifications and management measures for the Pacific Coast groundfish fishery (75 FR 67810). The final rule to implement the 2011-2012 harvest specifications and management measures for the Pacific Coast Groundfish Fishery was published on May 11, 2011 (76 FR 27508). These specifications and management measures are codified in the CFR (50 CFR part 660, subparts C through G).

Changes to current groundfish management measures implemented by this action were recommended by the Council at its June 6-13, 2011 meeting in Spokane, Washington. The Council recommended adjustments to current groundfish management measures to respond to updated fishery information and other inseason management needs. The projected impacts to two of the eight overfished species (canary rockfish and yelloweye rockfish) will increase slightly with the adjustments to the deeper nearshore rockfish limits in the limited entry fixed gear and open access fisheries south of 40°10.00′ N. lat. However, these impacts, when combined with the impacts from all other fisheries, are not projected to exceed the 2011 rebuilding annual catch limits (ACLs) for these species. All other adjustments to fishery management measures are not expected to result in greater impacts to overfished species than originally projected through the end of 2011. Estimated mortality of overfished and target species are the result of management measures designed to achieve, to the extent possible, but not exceed, ACLs of target species while fostering the rebuilding of overfished stocks by remaining within their rebuilding ACLs.

Trawl Rockfish Conservation Area

The Council recommended and NMFS is implementing a shift in the seaward boundary of the trawl Rockfish Conservation Area (RCA) for the area from 48°10′ N. lat. (Cape Alava) to 45°46′ N. lat. (Cape Falcon) by shifting the seaward boundary of the trawl RCA boundary from the boundary line approximating the 200-fm (366-m) depth contour to the boundary line approximating the 150-fm (274-m) depth contour.

In June 2010, the Council recommended that the trawl RCA boundaries that were scheduled for the 2010 calendar year, as of June 2010, be in place for the 2011 start of the rationalized trawl fishery. Boundaries of the trawl RCA were left in place as they existed in 2010 due to the uncertainty in how the rationalized fishery would perform. One of the goals of the trawl rationalization program was to allow individual accountability to drive bycatch rates of overfished species down, and the Council acknowledged that once fishery information was available from the rationalized fishery, adjustments to the trawl RCA boundaries may be made in the future.

At its March 2011 meeting, the Council considered changes to the trawl RCA boundaries after a request from industry. However, the Council did not recommend changes due to the limited amount of fishery information on landings and bycatch at that time.

At its June 2011 meeting, the Council considered a different, more limited, industry request to shift the seaward boundary of the trawl RCA shoreward to open some areas for harvesting Dover sole and sablefish. The Council carefully weighed the potential risks and benefits of opening some deeper areas that are currently closed by the trawl RCA where the fleet may have higher encounters with darkblotched rockfish and Pacific halibut.

The most recent fishery information on total catch, including discards, of darkblotched rockfish in the IFQ fishery indicated that as of June 6, 2011, only 27.3 mt of darkblotched rockfish have been harvested. In light of the low catch levels of darkblotched rockfish to date, opening some deeper areas that are currently closed by the RCA could increase accessibility of some of the more valuable target resources on the slope, such as Dover sole and sablefish. This change to the RCA structure would also give fishers a chance to demonstrate the benefits of individual accountability that they have in the trawl rationalization program.

The Council acknowledged that as of June 6, 2011, there was no information available on catch stratified by the depths that vessels were fishing. This information would help inform the catch levels of overfished species and how they vary by depth, and could be informative for decisions on changes to the RCA. However, the Council noted that this information is being collected and processed, and is anticipated to be available by its September 2011 meeting. The Council also considered that west coast groundfish observer program (WCGOP) data on the trip-limit fishery from 2006-2009 indicated that the requested change to the seaward RCA boundary would open areas where bycatch rates of darkblotched rockfish have been documented to be higher than in some other areas.

If a vessel had a large catch of darkblotched, as seen in WCGOP data where a single tow could catch more than 1 mt of darkblotched rockfish, or of Pacific halibut, fishers may not be able to cover their catch with their available quota pounds, and it may force them to cease fishing until any overage can be covered. If large tows of darkblotched rockfish occur several times and inadequate darkblotched rockfish quota is available, it could even mean that fishing opportunities seaward of the RCA could be in jeopardy for all of the shorebased non-whiting IFQ vessels.

The Council also considered additional factors that supported making the requested changes to the trawl RCA boundaries. First, vessels operating in the IFQ fishery, with full observer coverage, have strong incentives to avoid catch levels of species that they cannot cover with available quota pounds (e.g., darkblotched rockfish or Pacific halibut). In addition, the full observer coverage and increased ability to track catch inseason could allow the Council to make necessary adjustments if excessive catch is observed. Therefore, the risk of several large tows of darkblotched rockfish threatening fishing opportunities for all of the shorebased non-whiting IFQ vessels is minimized. Second, the Council acknowledged that the request was limited to only a specific portion of the coast; from Cape Alava in northern Washington (48°10′ N. lat.) south to Cape Falcon in northern Oregon (45°46′ N. lat.), just below the Columbia River. The Council also recognized that additional fishery information will become available prior to the September 2011 Council meeting, and further adjustments to RCA boundaries may be considered for the end of 2011 if necessary.

Therefore, the Council ultimately recommended and NMFS is implementing a shift in the seaward boundary of the trawl RCA for the area from 48°10′ N. lat. (Cape Alava) to 45°46′ N. lat. (Cape Falcon): Open fishing area between the boundary line approximating the 150-fm (274-m) depth contour and the boundary line approximating the 200-fm (366-m) depth contour, by shifting the seaward boundary of the trawl RCA boundary from the boundary line approximating the 200-fm (366-m) depth contour to the boundary line approximating the 150-fm (274-m) depth contour beginning on September 1 through the end of the year.

Limited Entry Fixed Gear and Open Access Fishery Management Measures

Minor Nearshore and Black Rockfish Trip Limits Between 42° N. Lat. and 40°10.00′ N. Lat.

The Council recommended and NMFS is implementing an increase to the bi-monthly limit for minor nearshore and black rockfish in the limited entry fixed gear and open access fisheries between 42° N. lat. and 40°10.00′ N. lat. beginning on July 1, through the end of the year. The change allows for increased landings of black rockfish.

Black rockfish is a nearshore rockfish species that was assessed in 2007. The 2011 black rockfish commercial catch target in the California nearshore fishery is 82 mt. At its June meeting, the Council considered the most recent fish ticket data and projected impacts to black rockfish in the nearshore fishery off the California coast through the rest of the year. These estimates indicated that under the current trip limit structure, catch was estimated to be only 68 mt, or 83 percent of the 82 mt catch target. Industry requested an increase to black rockfish trip limits in northern California, between 42° N. lat. and 40°10.00′ N. lat., because they have had limited nearshore fishing opportunities due in part to poor weather conditions and the impacts of the tsunami on infrastructure and fishing vessels. Some vessels have not been able to resume full time operations since the tsunami and other vessels which sustained damage are taking longer to resume operations than previously thought.

The Council considered increases to black rockfish trip limits to allow additional harvest of this healthy stock, and the potential impacts to overfished species. An increase in trip limits is not anticipated to increase projected impacts to overfished species because projected impacts to overfished species are calculated assuming that up to 82 mt of black rockfish are harvested in this fishery.

Therefore, the Council recommended and NMFS is implementing trip limit changes for minor nearshore and black rockfish in the limited entry fixed gear and open access fishery between 42° N. lat. and 40°10.00′ N. lat.: From “7,000 lb (3,175 kg) per two months, no more than 1,200 lb (544 kg) of which may be species other than black rockfish” to “8,500 lb (3,856 kg) per two months, no more than 1,200 lb (544 kg) of which may be species other than black rockfish” beginning in Period 4, on July 1, through the end of the year.

Deeper Nearshore Rockfish South of 40°10′ N. Lat.

The Council recommended and NMFS is implementing trip limit increases for deeper nearshore rockfish in the limited entry fixed gear and open access fishery south of 40°10′ N. lat.

At its June meeting, the Council considered the most recent fish ticket data indicating that landings of deeper nearshore rockfish south of 40°10′ N. lat. have been lower in 2011 than in previous years. An industry request came forward to increase the deeper nearshore rockfish trip limits to provide more access to black and blue rockfish while keeping their total catch within the state fishery harvest guidelines for these species.

Modest increases to the deeper nearshore rockfish trip limits in the limited entry fixed gear and open access fisheries in Periods 4-6 (July 1 through December 31) are projected to slightly increase impacts to co-occurring overfished rockfish, particularly canary rockfish and yelloweye rockfish. Projected impacts to canary rockfish increase by 0.1 mt and projected impacts to yelloweye rockfish are projected to increase by less than 0.05 mt. These slightly higher projected impacts in the deeper nearshore fishery, when combined with the anticipated impacts to these species in all other fisheries through the end of the year, are not anticipated to exceed the 2011 rebuilding ACLs for canary rockfish or yelloweye rockfish.

Therefore, the Council recommended and NMFS is implementing trip limit changes for deeper nearshore rockfish in the limited entry fixed gear and open access fishery south of 40°10.00′ N. lat.: From “700 lb (318 kg) per 2 months” between 40°10′ N. lat. and 34°27′ N. lat. and “600 lb (272 kg) per 2 months” south of 34°27′ N. lat. in Period 4 (July-August), and from “800 lb (363 kg) per 2 months” south of 40°10.00′ N. lat. in Periods 5-6 (September-December) to “900 lb (408 kg) per 2 months” beginning in Period 4, on July 1, through the end of the year.

Open Access Fishery, Minor Shelf Rockfish Trip Limits South of 34°27′ N. Lat.

At its June 2011 meeting, the Council received a request to increase trip limits for minor shelf rockfish south of 34°27′ N. lat. Total mortality of minor shelf rockfish south of 40°10′ N. lat. has been well below the optimum yield for this area in 2006-2009. Beginning in 2011, formal allocations of this species complex were made between the trawl and the non-trawl fisheries, with 87.8 percent of the ACL for this species complex being allocated to the non-trawl fisheries, including both commercial and recreational fisheries. The Council considered total mortality of this species complex in 2006-2009 if that formal non-trawl allocation had been in place in those years. If that formal non-trawl allocation had been in place, no more than 52 percent of what would have been the non-trawl allocation would have been caught in any of those years. The Council also considered anecdotal information that catch of speckled rockfish, a species in the minor shelf rockfish complex south of 40°10′ N. lat., has been high for vessels that are targeting deeper nearshore and vermilion rockfish. Industry is requesting an increase to the minor shelf rockfish trip limits for the area south of 34°27′ N. lat. to turn catch of speckled rockfish, which may have been discarded under lower limits, into landed catch.

There is no formal model to project impacts to co-occurring overfished species in this non-nearshore fishery south of 34°27′ N. lat. However, as included in the transmittal letter from the Director of the Council, dated June 23, 2011, the Groundfish Management Team (GMT), an advisory body to the Council, analyzed data from the west coast groundfish observer program indicate that very few encounters with overfished species occur in this fishery and this area, including encounters with bocaccio. However, if bocaccio catch were to increase as a result of the increase to minor shelf rockfish trip limits, it is anticipated that increased catch would be accommodated under the current bocaccio trip limits for this fishery. Under the current trip limit structure for minor shelf rockfish species, state fish ticket information indicates that the 100 lb (45 kg) per 2 months trip limit for bocaccio is not being attained by most fishers. The landings of bocaccio being below the bi-monthly trip limit indicates that if higher catch of bocaccio were to occur under a modest increase in shelf rockfish trip limits, the catch could be accommodated by the current bocaccio trip limits and would therefore not increase overall projected impacts of bocaccio in the open access fishery.

Therefore, the Council recommended and NMFS is implementing trip limit changes for minor shelf rockfish in the open access fishery south of 34°27′ N. lat.: From “750 lb (340 kg) per 2 months” to “1,000 lb (454 kg) per 2 months” beginning in Period 4, on July 1, through the end of the year.

Limited Entry Fixed Gear Sablefish Daily Trip Limit Fishery, North of 36° N. Lat.

The Council recommended and NMFS is implementing decreases in trip limits for the limited entry fixed gear sablefish fishery north of 36° N. lat.

At its March 2011 meeting, the Council took action to reduce limits in the limited entry fixed gear sablefish daily trip limit (DTL) fishery north of 36° N. lat. This recommendation was precautionary, in response to the discovery of an error in the methods that were used to estimate landings of sablefish in the DTL fishery. Since March, staff at NMFS, the Pacific States Marine Fisheries Commission (PSMFC), and the GMT have worked to correct the algorithm that is used in PacFIN to estimate sablefish landings in the DTL fishery. The new, corrected algorithm in PacFIN produced higher than anticipated landings estimates of sablefish in this fishery. Even with the precautionary adjustments to the limited entry fixed gear sablefish DTL fishery limits that were recommended in March, without any additional changes to current management measures, landings of sablefish in the limited entry fixed gear DTL fishery north of 36° N. lat. are projected to be 439 mt, 160 percent of the 273 mt fishery landed catch harvest guideline. Considerable reductions to the bi-monthly cumulative limits are necessary, as quickly as possible, to keep projected catch through the end of the year within the fishery harvest guideline and to prevent exceeding the non-trawl fishery allocation for sablefish in 2011.

Decreases in trip limits to keep catch within the fishery harvest guideline are not anticipated to change projected impacts to overfished species because projected impacts to overfished species are calculated assuming that the entire sablefish allocation is harvested.

Therefore, the Council recommended and NMFS is implementing changes for the limited entry fixed gear fishery north of 36° N. lat. that decrease sablefish DTL fishery limits from “2,000 lb (907 kg) per week, not to exceed 6,500 lb (2,948 kg) per 2 months” to “2,000 lb (907 kg) per week, not to exceed 3,500 lb (1,588 kg) per 2 months” beginning in period 4, on July 1, through the end of the year.

Open Access Sablefish DTL Fishery North of 36° N. Lat.

The Council recommended and NMFS is implementing a decrease for the open access sablefish fishery trip limits north of 36° N. lat.

The most recent landings projections for the open access sablefish DTL fishery, combined with the addition of anticipated discard mortality, indicate that catches of sablefish in the open access fishery north of 36° N. lat. through the end of the year would exceed the fishery harvest guideline. Without any changes to current management measures, landings are projected to be 436 mt, or 101 percent of the 433 mt landed catch harvest guideline for the directed open access fishery. The Council considered modest decreases to the weekly and bi-monthly limits for sablefish in the open access fishery north of 36° N. lat. in order to approach, but not exceed, the fishery harvest guideline. This modest decrease in trip limits is not anticipated to change projected impacts to overfished species because projected impacts to overfished species are calculated assuming that the entire sablefish allocation is harvested.

Therefore, the Council recommended and NMFS is implementing a decrease for the open access fishery trip limits north of 36° N. lat. from “300 lb (136 kg) per day, or 1 landing per week of up to 1,200 lb (544 kg), not to exceed 2,250 lb (1,021 kg) per 2 months” to “300 lb (136 kg) per day, or 1 landing per week of up to 1,050 lb (476 kg), not to exceed 2,100 lb (953 kg) per 2 months” beginning in period 4, on July 1, through the end of the year.

Classification

This final rule makes routine inseason adjustments to groundfish fishery management measures based on the best available information and is taken pursuant to the regulations implementing the Pacific Coast Groundfish FMP.

These actions are taken under the authority of 50 CFR 660.60(c) and are exempt from review under Executive Order 12866.

These inseason adjustments are taken under the authority of the Magnuson-Stevens Fishery Conservation and Management Act (Magnuson-Stevens Act), and are in accordance with 50 CFR part 660, subparts C through G, the regulations implementing the FMP. These actions are based on the most recent data available. The aggregate data upon which these actions are based are available for public inspection at the Office of the Administrator, Northwest Region, NMFS (see ADDRESSES), during business hours.

For the following reasons, NMFS finds good cause to waive prior public notice and comment on the revisions to biennial groundfish management measures under 5 U.S.C. 553(b)(B) because notice and comment would be impracticable and contrary to the public interest. Also, for the same reasons, NMFS finds good cause to waive the 30-day delay in effectiveness pursuant to 5 U.S.C. 553(d)(3), so that this final rule may become effective as quickly as possible.

The recently available data upon which these recommendations were based was provided to the Council, and the Council made its recommendations, at its June 6-13, 2011, meeting in Spokane, Washington. The Council recommended that these changes be implemented by July 1, 2011 or as quickly as possible thereafter. There was not sufficient time after that meeting to draft this document and undergo proposed and final rulemaking before these actions need to be in effect. For the actions to be implemented in this final rule, affording the time necessary for prior notice and opportunity for public comment would prevent the Agency from managing fisheries using the best available science to approach, without exceeding, the ACLs for federally managed species in accordance with the FMP and applicable laws. The adjustments to management measures in this document affect commercial fisheries off Washington, Oregon, and California.

Changes to sablefish trip limits in the limited entry fixed gear and open access sablefish DTL fisheries north of 36° N. lat. are needed to prevent the 2011 sablefish ACL for the area north of 36° N. lat. from being exceeded. These changes must be implemented in a timely manner by July 1, 2011 because failure to implement trip limit restrictions by July 1, 2011 could risk catch of sablefish in the fishery north of 36° N. lat. exceeding the 2011 sablefish non-trawl allocation or even the 2011 sablefish ACL for the area north of 36° N. lat. These revisions are needed to keep the harvest of groundfish species within the harvest levels in place for 2011, while allowing fishermen access to healthy stocks. Delaying these changes beyond July 1, 2011 would allow fishers to access the higher bi-monthly trip limit in Period 4 (July-August) and could require even larger restrictions or closures later in the year. Such a delay would keep management measures in place that are not based on the best available data and that could lead to exceeding ACLs. Such delay could impair achievement of one of the Pacific Coast Groundfish FMP goals to prevent overfishing and to promote year-round fishing opportunities.

Changes to trip limits for black rockfish in the minor nearshore rockfish complex, deeper nearshore rockfish, and minor shelf rockfish in the south will allow fishermen additional harvest opportunities for black rockfish, blue rockfish, spotted rockfish, and other stocks within those complexes. These changes are necessary to relieve a restriction by allowing additional harvest opportunities, while staying within ACLs. These changes must be implemented in a timely manner, as quickly as possible, so that fishermen are allowed increased opportunities to harvest available healthy stocks while preventing stocks from exceeding their ACLs. These changes are intended to meet the goal of the Pacific Coast Groundfish FMP to achieve maximum biological yield while keeping within the constraints of overfished species rebuilding requirements. Changes to trawl RCA boundaries will allow fishermen additional harvest opportunities for Dover sole and sablefish. These changes are necessary to relieve a restriction by allowing additional harvest opportunities, while staying within ACLs. These changes must be implemented in a timely manner, on September 1, so that fishermen are allowed increased opportunities to harvest available healthy stocks while preventing stocks from exceeding their ACLs. It would be contrary to the public interest to wait to implement these changes until after public notice and comment, because that would prevent fishermen from taking these fish at the time they are available, preventing additional harvest in fisheries that are important to coastal communities.

List of Subjects in 50 CFR Part 660

Fisheries, Fishing, Indian Fisheries.

Dated: June 24, 2011.
Margo Schulze-Haugen,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Table 1 (North) to part 660, subpart D, is revised to read as follows:

BILLING CODE 3510-22-P

3. Table 2 (North) and Table 2 (South) to part 660, subpart E, are revised to read as follows:

4. Table 3 (North) and Table 3 (South) to part 660, subpart F, are revised to read as follows:

[FR Doc. 2011-16512 Filed 6-29-11; 8:45 am]

BILLING CODE 3510-22-C